DEPARTMENT OF HEALTH AND HUMAN SERVICES

Meeting of the National Clinical Care Commission

AGENCY: Office of Disease Prevention and Health Promotion, Office of the Assistant Secretary for Health, Office of the Secretary, Department of Health and Human Services.

ACTION: Notice.

SUMMARY: The National Clinical Care Commission (the Commission) will conduct a virtual meeting on February 19, 2020. The Commission is charged to evaluate and make recommendations to the U.S. Department of Health and Human Services (HHS) Secretary and Congress regarding improvements to the coordination and leveraging of federal programs related to diabetes and its complications.

DATES: The meeting will take place on February 19, 2020, from 1 p.m. to approximately 5 p.m. Eastern Standard Time (EST).

ADDRESSES: The meeting will be held online via webinar. To register to attend the meeting, please visit the registration website at https://kauffmaninc.adobeconnect.com/nccc_feb2020/event/event_info.html.

FOR FURTHER INFORMATION CONTACT: Linda Harris, Designated Federal Officer, National Clinical Care Commission, U.S. Department of Health and Human Services, Office of the Assistant Secretary for Health, Office of Disease Prevention and Health Promotion, 1101 Wootton Parkway, Suite 420, Rockville, MD 20852. Email: OHQ@hhs.gov. Telephone: 240-453-8262.

SUPPLEMENTARY INFORMATION: The National Clinical Care Commission Act (Pub. L. 115-80) requires the HHS Secretary to establish the National Clinical Care Commission. The Commission consists of representatives of specific federal agencies and non-federal individuals and entities who represent diverse disciplines and views. The Commission will evaluate and make recommendations to the HHS Secretary and Congress regarding improvements to the coordination and leveraging of federal programs related to diabetes and its complications.

The sixth meeting will be held virtually, and will consist of presentations from the Centers for Medicare and Medicaid Services (CMS). The final meeting agenda will be available prior to the meeting at https://health.gov/hcq/national-clinical-care-commission.asp.

Public Participation at Meeting: The Commission invites public comment on issues related to the Commission's charge. There will be an opportunity for oral comments at this virtual meeting. Virtual attendees who plan to provide oral comments at the Commission meeting during a designated time must register prior to the meeting. To virtually attend the Commission meeting, individuals must pre-register at the registration website at https://kauffmaninc.adobeconnect.com/nccc_feb2020/event/event_info.html.

Written comments are welcome throughout the entire development process of the Commission's work and may be emailed to OHQ@hhs.gov, or by mail to the following address: Public Commentary, National Clinical Care Commission, 1101 Wootton Parkway, Suite 420, Rockville, MD 20852. Written comments should not exceed three pages in length.

Individuals who need special assistance with reasonable accommodations, should indicate the special accommodation when registering online or by notifying Jennifer Gillissen at jennifer.gillissen@kauffmaninc.com by February 7, 2020.

Authority: The National Clinical Care Commission is required under the National Clinical Care Commission Act (Pub. L. 115-80). The Commission is governed by provisions of the Federal Advisory Committee Act (FACA), Public Law 92-463, as amended (5 U.S.C., App.) which sets forth standards for the formation and use of federal advisory committees.

Dated: January 23, 2020.
Donald Wright,
Deputy Assistant Secretary for Health.

[FR Doc. 2020-01871 Filed 1-30-20; 8:45 am]

BILLING CODE 4150-32-P